DEPARTMENT OF DEFENSE

Office of the Secretary

[Docket ID: DoD-2022-OS-0028]

Proposed Collection; Comment Request

AGENCY: Washington Headquarters Services (WHS), Department of Defense (DoD).

ACTION: 60-Day information collection notice.

SUMMARY: In compliance with the Paperwork Reduction Act of 1995, the Washington Headquarters Services announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 2, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Pentagon Athletic Center, 1155 Defense Pentagon, Washington, DC 20301-115, Lisa Modeste, or call 703-614-6710.

SUPPLEMENTARY INFORMATION:

Title; Associated Form; and OMB Number: Pentagon Athletic Center Membership Application; WHS Form 19; OMB Control Number 0704-PACM.

Needs and Uses: The WHS Form 19 is necessary to obtain information from respondents who seek to become a member of the Pentagon Athletic Center (PAC). Information that is collected includes home address, email, and full name, in order to build a profile for each member in the membership database. Respondents of the WHS-19 are government civilians, contractors, active duty and retired personnel in the National Capital Region. The membership application is in paper format, available at the PAC. It is also available online at whs.pac.mil.

Affected Public: Individuals or households.

Annual Burden Hours: 572.67.

Number of Respondents: 3,436.

Responses per Respondent: 1.

Annual Responses: 3,436.

Average Burden per Response: 10 minutes.

Frequency: On Occasion.

Dated: February 25, 2022.
Aaron T. Siegel,
Alternate OSD Federal Register Liaison Officer, Department of Defense.

[FR Doc. 2022-04485 Filed 3-2-22; 8:45 am]

BILLING CODE 5001-06-P